DEPARTMENT OF DEFENSE

Office of the Secretary

[Transmittal Nos. 13-68]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-68 with attached transmittal and policy justification.

Dated: December 23, 2013.
Aaron Siegel,
Alternate OSD Federal Register Liaison Officer, Department of Defense.

Transmittal No. 13-68

Notice of Proposed Issuance of Letter of Offer Pursuant to Section 36(b)(1) of the Arms Export Control Act, as amended

(i) Prospective Purchaser: Norway

(ii) Total Estimated Value:

Major Defense Equipment* | $ 0 million
Other (includes SME) | $107 million
TOTAL | $107 million

(iii) Description and Quantity or Quantities of Articles or Services under Consideration for Purchase: C-130J technical, engineering and software support; software updates and patches; familiarization training for Portable Flight Planning System (PFPS) and Joint Mission Planning System (JMPS); spare and repair parts; U.S. Government and contractor technical support services; and other related elements of logistics and program support.

(iv) Military Department: Air Force (QAT, Amendment 01)

(v) Prior Related Cases, if any: FMS Case QAT-$98M

(vi) Sales Commission, Fee, etc., Paid, Offered, or Agreed to be Paid: N/A

(vii) Sensitivity of Technology Contained in the Defense Article or Defense Services

Proposed to be Sold: N/A

(viii) Date Report Delivered to Congress: 18 December 2013

* as defined in Section 47(6) of the Arms Export Control Act.

POLICY JUSTIFICATION

Norway—Technical, Engineering, and Software Support for C-130J

The Government of Norway has requested a possible sale of C-130J technical, engineering and software support; software updates and patches; familiarization training for the Portable Flight Planning System (PFPS) and Joint Mission Planning System (JMPS); spare and repair parts; U.S. Government and contractor technical support services; and other related elements of logistics and program support. The estimated cost is $107 million.

This proposed sale will contribute to the foreign policy and national security of the United States by helping to improve the security of a NATO ally. Norway intends to use this technical, engineering, and software support to provide successful operation of the PFPS and JMPS. This program will increase Norway's ability to contribute to future NATO, operations and supports U.S. national security interests. This support will continue to strengthen a critical, long-term strategic military partnership.

The proposed sale of this equipment and support will not alter the basic military balance in the region.

The principal contractors will be Lockheed Martin Corporation, DBA Lockheed Martin Aeronautics in Marietta, Georgia; Rolls Royce Corporation in Indianapolis, Indiana; and GE Aviation Systems LLC, DBA Dowty Propellers in Sterling, Virginia. There are no known offset agreements associated with the proposed sale.

Implementation of this proposed sale will not require the assignment of additional U.S. Government or contract representatives to Norway.

There will be no adverse impact on the U.S. defense readiness as a result of this proposed sale.

[FR Doc. 2013-31054 Filed 12-26-13; 8:45 am]

BILLING CODE 5001-06-P